ENVIRONMENTAL PROTECTION AGENCY

[R08-CO-2012-0001; FRL-9676-4]

Adequacy Determination for Aspen PM10 and Fort Collins Carbon Monoxide Maintenance Plans' Motor Vehicle Emissions Budgets for Transportation Conformity Purposes; State of Colorado

AGENCY: Environmental Protection Agency (EPA).

ACTION: Notice of adequacy.

SUMMARY: In this notice, EPA is notifying the public that the Agency has found the following adequate for transportation conformity purposes: The “Revised PM10 Maintenance Plan for the Aspen Attainment/Maintenance Area” ¹ and its motor vehicle emissions budget, and the “Revised Carbon Monoxide Maintenance Plan Fort Collins Attainment/Maintenance Area.” As more fully explained in the Supplementary Information section of this notice, this finding will affect future transportation conformity determinations.

¹ PM10 refers to particulate matter less than or equal to 10 microns in size.

DATES: This finding is effective June 11, 2012.

FOR FURTHER INFORMATION CONTACT: Tim Russ, Air Program, Mailcode 8P-AR, Environmental Protection Agency, Region 8, 1595 Wynkoop Street, Denver, Colorado 80202-1129, telephone number (303) 312-6479, fax number (303) 312-6064, or email russ.tim@epa.gov.

SUPPLEMENTARY INFORMATION: Throughout this document, whenever “we,” “us,” or “our,” are used, we mean EPA.

Transportation conformity is required by section 176(c) of the Clean Air Act (CAA). The conformity rule provisions at 40 CFR 93 require that transportation plans, programs, and projects conform to a State Implementation Plan (SIP) and establish the criteria and procedures for determining whether or not they do. Conformity to a SIP means that transportation activities will not produce new air quality violations, worsen existing violations, or delay timely attainment of the National Ambient Air Quality Standard (NAAQS).

The criteria by which we determine whether a SIP revision's motor vehicle emissions budget (MVEB) is adequate for conformity purposes are outlined in 40 CFR 93.118(e)(4), which was promulgated August 15, 1997 (62 FR 43780). We described our process for determining the adequacy of submitted SIP MVEBs in our July 1, 2004 Transportation Conformity Rule Amendments (69 FR 40004). In addition, in certain areas with monitored ambient carbon monoxide (CO) values significantly below the NAAQS, EPA has allowed states to use limited maintenance plans (LMPs), which contain no future year maintenance projections and, therefore, no MVEBs. (See “Limited Maintenance Plan Option for Nonclassifiable CO Nonattainment Areas,” signed by Joseph Paisie, Group Leader, Integrated Policy and Strategies Group (MD-15), October 6, 1995, also known as EPA's “LMP Policy.”) In an area covered by an approved carbon monoxide LMP, the Regional Transportation Plan (RTP) and Transportation Improvement Program (TIP) are presumed to automatically satisfy the emissions budget test requirement, and no regional emissions analysis with respect to a MVEB under sections 40 CFR 93.118 or 93.119 (i.e., MVEB(s), build less than no-build, or build less than base year) of the conformity rule is required for RTP and TIP conformity. We used these resources in making our adequacy determinations announced in this notice.

This notice is simply an announcement of findings that we have already made and are as described below:

Aspen (PM10): The State submitted the “Revised PM10 Maintenance Plan for the Aspen Attainment/Maintenance Area” on May 25, 2011. The State prepared the submittal to meet the requirements of section 175A(b) of the CAA for a second 10-year maintenance plan. EPA sent a letter to the Colorado Department of Public Health and Environment (CDPHE) on August 11, 2011, stating that the submitted Aspen PM10 second 10-year maintenance plan and the 2023 p.m.10 MVEB were adequate for transportation conformity purposes. We posted the “Revised PM10 Maintenance Plan for the Aspen Attainment/Maintenance Area” for adequacy review on EPA's transportation conformity Web site on June 20, 2011. The public comment period closed on July 20, 2011, and we did not receive any comments in response to the adequacy review posting (see http://www.epa.gov/otaq/stateresources/transconf/currsips.htm#aspen).

Fort Collins (Carbon Monoxide): The State submitted the “Revised Carbon Monoxide Maintenance Plan Fort Collins Attainment/Maintenance Area” on May 25, 2011. The State prepared the submittal to meet the requirements of section 175A(b) of the CAA for a second 10-year maintenance plan and used, as appropriate, the provisions of EPA's CO LMP policy. Thus, the LMP contains no MVEB. EPA sent a letter to the CDPHE on August 9, 2011, stating that the submitted Fort Collins second 10-year maintenance plan was adequate for transportation conformity purposes. We posted the “Revised Carbon Monoxide Maintenance Plan Fort Collins Attainment/Maintenance Area” for adequacy review on EPA's transportation conformity Web site on June 20, 2011. The public comment period closed on July 20, 2011, and we did not receive any comments in response to the adequacy review posting (see http://www.epa.gov/otaq/stateresources/transconf/currsips.htm#ftcollins).

For the Aspen PM10 maintenance area, the MVEB we found adequate is 1146 pounds of PM10 per day in 2023. Following the effective date listed in the DATES section of this notice, the Colorado Department of Transportation and the U.S. Department of Transportation are required to use this motor vehicle emissions budget for future transportation conformity determinations for projects in the Aspen PM10 maintenance area. As noted above, the “Revised Carbon Monoxide Maintenance Plan Fort Collins Attainment/Maintenance Area” contains no MVEB, and, under EPA's LMP interpretation, the North Front Range Metropolitan Planning Organization, the Colorado Department of Transportation, and the U.S. Department of Transportation may presume that RTPs and TIPs satisfy the emissions budget test requirement with respect to such revised plan. However, prior MVEBs may apply as we described in our adequacy letter to the State.

Please note that our adequacy review described above is separate from our rulemaking action on the two maintenance plans discussed above and should not be used to prejudge our ultimate approval or disapproval of each of the SIP revisions. Even if we find a maintenance plan or a maintenance plan and its MVEB adequate for transportation conformity purposes, we may later disapprove the SIP revision.

Authority: 42 U.S.C. 7401 et seq.

Dated: April 30, 2012.
James B. Martin,
Regional Administrator, Region 8.

[FR Doc. 2012-12797 Filed 5-24-12; 8:45 am]

BILLING CODE 6560-50-P